DEPARTMENT OF TRANSPORTATION

Federal Aviation Administration

14 CFR Part 39

[Docket No. 2002-SW-24-AD; Amendment 39-12839; AD 2002-09-51]

RIN 2120-AA64

Airworthiness Directives; Bell Helicopter Textron, Inc. Model 204B, 205A, A-1, and B Helicopters

AGENCY: Federal Aviation Administration, DOT.

ACTION: Final rule; request for comments.

SUMMARY: This document publishes in the Federal Register an amendment adopting Emergency Airworthiness Directive (EAD) 2002-09-51, sent previously to all known U.S. owners and operators of specified Bell Helicopter Textron, Inc. (Bell) model helicopters by individual letters. This AD requires cleaning and inspecting the tail rotor (T/R) grip to determine if the grip is made of steel and replacing any grip not made of steel with an airworthy, steel TR grip. This AD is prompted by reports of a certain timed-out life limited T/R grips being improperly identified and reinstalled on Bell Model 204B, 205A, A-1, and B helicopters. The actions specified by this AD are intended to prevent failure of the T/R grip and subsequent loss of helicopter control.

DATES: Effective August 22, 2002, to all persons except those persons to whom it was made immediately effective by EAD 2002-09-51, issued on May 9, 2002, which contained the requirements of this amendment.

Comments for inclusion in the Rules Docket must be received on or before October 7, 2002.

ADDRESSES: Submit comments in triplicate to the Federal Aviation Administration (FAA), Office of the Regional Counsel, Southwest Region, Attention: Rules Docket No. 2002-SW-24-AD, 2601 Meacham Blvd., Room 663, Fort Worth, Texas 76137. You may also send comments electronically to the Rules Docket at the following address: 9-asw-adcomments@faa.gov.

FOR FURTHER INFORMATION CONTACT: Kennedy Jones, Aviation Safety Engineer, FAA, Rotorcraft Directorate, Rotorcraft Certification Office, Fort Worth, Texas 76193-0170, telephone (817) 222-5148, fax (817) 222-5783.

SUPPLEMENTARY INFORMATION: On May 9, 2002, the FAA superseded EAD 2002-08-53, issued April 22, 2002, with EAD 2002-09-51, issued May 9, 2002. EAD 2002-08-53 required, before further flight, cleaning and inspecting certain T/R grips and removing each unairworthy grip not made of steel. EAD 2002-09-51 retains those requirements and in addition corrects a statement in the preamble that T/R grip, part number (P/N) 205-011-711-101, has an unlimited life. That T/R grip has a life limit of 2,500 hours time-in-service. Also, EAD 2002-09-51 adds the Bell Model 204B helicopter to the applicability and clarifies the inspection requirements by specifying that the magnet be placed on the T/R grip body and not on the steel bushing or steel interior liner to determine if the grip is made of steel. EAD 2002-08-53, was prompted by reports that T/R grips, P/N 204-011-728-019, required to be removed from service by AD 73-17-04 (38 FR 22223, August 17, 1973), were being re-marked as P/N 205-011-711-101 and installed on certain Bell model helicopters. EAD 2002-09-51 was prompted by information from the manufacturer stating that the Bell Model 204B helicopter should be added to the applicability because the unairworthy grips could be installed on that model. This condition, if not detected, could result in failure of the T/R grip and subsequent loss of helicopter control.

This unsafe condition is likely to exist or develop on other Bell model helicopters of the same type design. Therefore, this AD requires cleaning and inspecting the T/R grip to determine if the grip is made of steel by placing a magnet on the exterior of the main body of the T/R grip. If the T/R grip is not made of steel, it must be removed from service. The short compliance time involved is required because the previously described critical unsafe condition can adversely affect the controllability of the helicopter. Therefore, this AD requires, before further flight, that you clean and inspect the T/R grip to determine if the grip is made of steel and remove any grip that is not made of steel, and this AD must be issued immediately.

Since it was found that immediate corrective action was required, notice and opportunity for prior public comment thereon were impracticable and contrary to the public interest, and good cause existed to make the AD effective immediately by individual letters issued on May 9, 2002, to all known U.S. owners and operators of Bell Model 204B, 205A, A-1, and B helicopters. These conditions still exist, and the AD is hereby published in the Federal Register as an amendment to 14 CFR 39.13 to make it effective to all persons.

The FAA estimates that this AD will affect 269 helicopters of U.S. registry, that the required actions will take approximately 2 work hours per helicopter to accomplish, and that the average labor rate is $60 per work hour. Required parts will cost approximately $4864 per helicopter. Based on these figures, the FAA estimates the total cost impact of the AD on U.S. operators will be $1,340,696 to clean, inspect, and replace one T/R grip on each helicopter in the entire fleet.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-24-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-09-51 Bell Helicopter Textron, Inc.: Amendment 39-12839. Docket No. 2002-SW-24-AD. Supersedes Emergency AD 2002-08-53, Docket No. 2002-SW-23-AD.

Applicability: Model 204B, 205A, A-1, and B helicopters, with tail rotor (T/R) grip, part number (P/N) 205-011-711-101, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required before further flight, unless accomplished previously.

To prevent failure of the T/R grip and subsequent loss of helicopter control, accomplish the following:

(a) Clean the T/R grip.

(b) Determine if the T/R grip is made of steel by placing a magnet on the exterior of the main body of the T/R grip. Do not make this determination by placing the magnet on the steel bushing or steel interior liner. If the main body of the T/R grip is not made of steel, replace it with an airworthy steel T/R grip. Only replacement T/R grips made of steel are eligible for installation.

(c) An alternative method of compliance or adjustment of the compliance time that provides an acceptable level of safety may be used if approved by the Manager, Rotorcraft Certification Office, FAA. Operators shall submit their requests through an FAA Principal Maintenance Inspector, who may concur or comment and then send it to the Manager, Rotorcraft Certification Office.

(d) Special flight permits may be issued in accordance with 14 CFR 21.197 and 21.199 to operate the helicopter to a location where the requirements of this AD can be accomplished.

(e) This amendment becomes effective on August 22, 2002, to all persons except those persons to whom it was made immediately effective by Emergency AD 2002-09-51, issued May 9, 2002, which contained the requirements of this amendment.

Issued in Fort Worth, Texas, on July 26, 2002.
Eric Bries,
Acting Manager, Rotorcraft Directorate, Aircraft Certification Service.

[FR Doc. 02-19875 Filed 8-6-02; 8:45 am]

BILLING CODE 4910-13-P